DEPARTMENT OF COMMERCE

National Oceanic and Atmospheric Administration

Review of National Marine Sanctuaries and Marine National Monuments Designated or Expanded Since April 28, 2007; Notice of Opportunity for Public Comment

AGENCY: Office of National Marine Sanctuaries (ONMS), National Ocean Service (NOS), National Oceanic and Atmospheric Administration (NOAA), Commerce.

ACTION: Notice; reopening of public comment period.

SUMMARY: On June 26, 2017, NOAA published a notice in the Federal Register (82 FR 28827) to request comments to inform the review the Department of Commerce is conducting pursuant to Executive Order 13795—Implementing an America-First Offshore Energy Strategy, signed on April 28, 2017. The Department of Commerce is conducting a review of all designations and expansions of National Marine Sanctuaries and Marine National Monuments since April 28, 2007. The June 26, 2017, notice provides more information on the scope of the review, including a list of the eleven National Marine Sanctuaries and Marine National Monuments subject to the review. The Secretary of Commerce will use the review to inform the preparation of a report under Executive Order 13795, Sec. 4(b)(ii). This notice reopens the public comment period by an additional 15 days.

DATES: Written comments must be submitted no later than August 15, 2017.

ADDRESSES: You may submit comments, identified by docket ID NOAA-NOS-2017-0066 by either of the following methods:

• Electronic Submissions: Submit all electronic public comments via the Federal e-Rulemaking Portal. Go to www.regulations.gov//#!docketDetail;D=NOAA-NOS-2017-0066, click the “Comment Now!” icon, complete the required fields and enter or attach your comments.

• Mail: E.O. 13795 Review, National Oceanic and Atmospheric Administration, Silver Spring Metro Campus Building 4 (SSMC4), Eleventh Floor, 1305 East-West Highway, Silver Spring, MD 20910.

Instructions: Comments sent by any other method, to any other address or individual, or received after the end of the comment period, may not be considered by NOAA. All comments received are a part of the public record and will generally be posted for public viewing on www.regulations.gov without change. All personal identifying information (for example, name, address, etc.) voluntarily submitted by the commenter will be publicly accessible. Do not submit confidential business information or otherwise sensitive or protected information. NOAA will accept anonymous comments (for electronic comments submitted through the Federal eRulemaking Portal, enter “N/A” in the required fields if you wish to remain anonymous).

FOR FURTHER INFORMATION CONTACT: William Douros, 831-647-1920, National Oceanic and Atmospheric Administration, Silver Spring Metro Campus Building 4 (SSMC4), Eleventh Floor, 1305 East-West Highway, Silver Spring, MD 20910.

Authority: Executive Order 13795.

Dated: July 25, 2017.
Nicole R. LeBoeuf,
Deputy Assistant Administrator For Ocean Services and Coastal Management.

[FR Doc. 2017-16012 Filed 7-28-17; 8:45 am]

BILLING CODE 3510-NK-P